FEDERAL COMMUNICATIONS COMMISSION

47 CFR Part 90

[PS Docket No. 13-87; PS Docket No. 06- 229, WT Docket No. 96-86, RM-11433 and RM-11577, FCC 14-172]

Service Rules Governing Narrowband Operations in the 769-775/799-805 MHz Bands

AGENCY: Federal Communications Commission.

ACTION: Final rule; announcement of effective date.

SUMMARY: In this document, the Commission announces that the Office of Management and Budget (OMB) has approved, for a period of three years, the information collection associated with the Service Rules Governing Narrowband Operations in the 769-775/799-805 MHz Bands, FCC 14-172. This document is consistent with the Report and Order, which stated that the Commission would publish a document in the Federal Register announcing the effective date of the rules.

DATES: Amendments to 47 CFR 90.531(b)(2) and (7), published at 79 FR 71321, December 2, 2014, are effective January 12, 2018.

FOR FURTHER INFORMATION CONTACT: John A. Evanoff, Policy and Licensing Division, Public Safety and Homeland Security Bureau at (202) 418-0848 or john.evanoff@fcc.gov. For additional information concerning the Paperwork Reduction Act information collection requirements, contact Nicole Ongele at (202) 418-2991.

SUPPLEMENTARY INFORMATION: A summary of the 700 MHz Report and Order was published in the Federal Register on December 2, 2014, 79 FR 71321. The 700 MHz Report and Order adopted technical rules for the 700 MHz narrowband. The summary stated that with the exception of certain rules requiring OMB approval, the rules adopted in the 700 MHz Report and Order would become effective January 2, 2015. With regard to rules requiring OMB approval, the Commission stated it will publish a document in the Federal Register announcing the effective date of these rules. The information collection requirements in §§ 90.531(b)(2) and (b)(7) were approved by OMB under OMB Control No. 3060-1198. With publication of the instant document in the Federal Register, the rule changes to 47 CFR 90.531(b)(2) and (b)(7) adopted in the 700 MHz Report and Order are now effective.

If you have any comments on the burden estimates listed below, or how the Commission can improve the collections and reduce any burdens caused thereby, please contact Nicole Ongele, Federal Communications Commission, Room 1-A620, 445 12th Street, SW, Washington, DC 20554. Please include the OMB Control Number, 3060-1198, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on April 20, 2015, for the information collection requirements contained in the modifications to 47 CFR 90.531(b)(2) and (b)(7).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1198.

The foregoing notice is required by the Paperwork Reduction Act of 1995, Public Law 104-13, October 1, 1995, and 44 U.S.C. 3507.

The total annual reporting burdens and costs for the respondents are as follows:

OMB Control Number: 3060-1198.

OMB Approval Date: April 20, 2015.

OMB Expiration Date: April 30, 2018.

Title: Section 90.525, Administration of Interoperability Channels; Section 90.529, State Licenses; and Section 90.531, Band Plan.

Form Number: N/A.

Respondents: Business or other for-profit entities, and state, local, or tribal government.

Number of Respondents and Responses: 2,283 respondents; 2,283 responses.

Estimated Time per Response: 1—2 hours.

Frequency of Response: On occasion reporting and one-time reporting requirements; third party disclosure.

Obligation to Respond: Required to obtain or retain benefits. Statutory authority for these collections are contained in sections 4(i), 11, 303(g), 303(r), and 332(c) (7) of the Communications Act of 1934, as amended, 47 U.S.C. 154(i), 161, 303(g), 303(r), 332(c)(7), unless otherwise noted.

Total Annual Burden: 2,336 hours.

Total Annual Cost: No Cost.

Nature and Extent of Confidentiality: There is no need for confidentiality with this collection of information.

Privacy Act: No impact(s).

Needs and Uses: Section 90.531(b)(2) of the Commission's rules provides that narrowband reserve channels are designated for General Use subject to Commission approved regional planning committee regional plans and technical rules applicable to General Use channels. T-Band incumbents shall enjoy priority access to these channels in certain markets provided that such incumbent commits to return to the Commission an equal amount of T-Band spectrum and obtains concurrence from the relevant regional planning committee(s). Section 90.531(b)(7) of the Commission's rules reserves certain narrowband channels for air-ground communications to be used by low altitude aircraft and ground based stations subject to state administration (e.g. letter of concurrence).

Commission staff will use the information to assign licenses for narrowband public safety channels. The information will also be used to determine whether prospective licensees operate in compliance with the Commission's rules. Without such information, the Commission could not accommodate State interoperability or regional planning requirements or provide for the efficient use of narrowband public safety frequencies. This information collection includes rules to govern the operation and licensing of 700 MHz band systems to ensure that licensees continue to fulfill their statutory responsibilities in accordance with the Communications Act of 1934, as amended. Such information will continue to be used to verify that applicants are legally and technically qualified to hold licenses, and to determine compliance with Commission rules.

Federal Communications Commission.
Katura Jackson,
Federal Register Liaison Officer, Office of the Secretary.

[FR Doc. 2018-00454 Filed 1-11-18; 8:45 am]

BILLING CODE 6712-01-P